FEDERAL ELECTION COMMISSION

Sunshine Act Notices; Meeting

* * * * *

DATE AND TIME: Thursday, March 11, 2004, at 10 a.m.

PLACE: 999 E Street, NW., Washington, DC (ninth floor).

STATUS: This meeting will be open to the public.

Items to be discussed: Correction and approval of minutes.

LaRouche's Committee for a New Bretton Woods—Statement of Reasons (LRA 565).

Draft Advisory Opinion 2004-03: Dooley for the Valley by counsel, Stephen J. Kaufman and Joseph M. Birkenstock.

Draft Advisory Opinion 2004-04: Air Transport Association of America by counsel, John C. Keeney, Jr.

Future meeting dates.

Routine administrative matters.

FOR FURTHER INFORMATION CONTACT: Robert Biersack, Acting Press Officer, telephone: (202) 694-1220.

Mary W. Dove,
Secretary of the Commission.

[FR Doc. 04-5187 Filed 3-3-04; 2:31 pm]

BILLING CODE 6715-01-M